DEPARTMENT OF THE INTERIOR

Bureau of Land Management

[WY-950-1420-00-P]

Filing of Plats of Survey; Nebraska

AGENCY: Bureau of Land Management, Interior.

ACTION: Notice.

The plats of the following described lands were officially filed in the Wyoming State Office, Bureau of Land Management, Cheyenne, Wyoming, effective 10:00 a.m., September 28, 2000.

The plat representing the dependent resurvey of portions of the North boundary of the Winnebago Indian Reservation, through Range 8 East, the First Guide Meridian East, through Township 27 North, between Ranges 8 and 9 East, the South boundary, the subdivisional lines and the subdivision of Sections 33 and 36, and the survey of the subdivision of Sections 33 and 36, T. 27 N., R. 8 E., Sixth Principal Meridian, Nebraska, Group No. 148, was accepted September 22, 2000.

The plat representing the dependent resurvey of a portion of the subdivisional lines and the subdivision of Sections 10 and 11, and the survey of Sections 10 and 11, T. 25 N., R. 9 E., Sixth Principal Meridian, Nebraska, Group No. 148, was accepted September 22, 2000.

Dated: September 28, 2000.
John P. Lee,
Chief Cadastral Survey Group.

[FR Doc. 00-26431 Filed 10-13-00; 8:45 am]

BILLING CODE 4310-22-P